DEPARTMENT OF THE INTERIOR

National Park Service

[N6406; NPS-WASO-NAGPRA-NPS0040801; PPWOCRADN0-PCU00RP14.R50000]

Notice of Intended Repatriation: U.S. Department of the Interior, National Park Service, Pipestone National Monument, Pipestone, MN

AGENCY: National Park Service, Interior.

ACTION: Notice.

SUMMARY: In accordance with the Native American Graves Protection and Repatriation Act (NAGPRA), the U.S. Department of the Interior, National Park Service, Pipestone National Monument (PIPE) intends to repatriate a certain cultural item that meets the definition of sacred object and that has a known lineal descendant.

DATES: Repatriation of the cultural item in this notice may occur on or after September 15, 2025.

ADDRESSES: Send additional, written requests for repatriation of the cultural item in this notice to Lauren Blacik, Superintendent, Pipestone National Monument, 36 Reservation Avenue, Pipestone, MN 56164, email lauren_blacik@nps.gov.

SUPPLEMENTARY INFORMATION: This notice is published as part of the National Park Service's administrative responsibilities under NAGPRA. The determinations in this notice are the sole responsibility of the Pipestone National Monument Superintendent and additional information on the determinations in this notice, including the results of consultation, can be found in the summary or related records.

Abstract of Information Available

A total of one cultural item has been requested for repatriation. The one sacred object is a ceremonial pipe. A pipe consisting of two parts, the bowl and stem, carved in the early 1970s by [Robert Crooks,] a member of the Mdewakanton Sioux Community. The bowl is a carved `Indian Head' design into pipestone (catlinite). The stem is sumac and decorated with beadwork and leather fringe.

Determinations

PIPE has determined that:

• The one sacred object described in this notice is a specific ceremonial object needed by a traditional Native American religious leader for present-day adherents to practice traditional Native American religion, according to the Native American traditional knowledge of a lineal descendant, Indian Tribe, or Native Hawaiian organization.

• A known lineal descendant (name withheld per request) is connected to the cultural item described in this notice.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after September 15, 2025. If competing requests for repatriation are received, PIPE must determine the most appropriate requestor prior to repatriation. Requests for joint repatriation of the cultural item are considered a single request and not competing requests. PIPE is responsible for sending a copy of this notice to all requestors and any other consulting parties.

Authority: Native American Graves Protection and Repatriation Act, 25 U.S.C. 3004 and the implementing regulations, 43 CFR 10.9.

Dated: July 31, 2025.
Melanie O'Brien,
Manager, National NAGPRA Program.

[FR Doc. 2025-15397 Filed 8-13-25; 8:45 am]

BILLING CODE 4312-52-P